DEPARTMENT OF HEALTH AND HUMAN SERVICES

National Institutes of Health

Notice of Meeting: Secretary's Advisory Committee on Genetics, Health, and Society

Pursuant to Public Law 92-463, notice is hereby given of the nineteenth meeting of the Secretary's Advisory Committee on Genetics, Health, and Society (SACGHS), U.S. Public Health Service. The meeting will be held from 8:30 a.m. to approximately 5 p.m. on Thursday, June 11, 2009, and from 8:30 a.m. to approximately 3 p.m. on Friday, June 12, 2009, at the Hubert H. Humphrey Building, 200 Independence Avenue, SW., Washington, DC 20201. The meeting will be open to the public with attendance limited to space available. The meeting also will be Web cast.

At the meeting, the Committee will continue its exploration of genetics and the future health care system by hearing presentations on anticipated changes in health care and the role genetics and genomics can play in achieving an effective, affordable, and equitable health care system. In addition, the Committee will discuss its work on genetics education and training and consider a draft report on direct-to-consumer genomic services. Updates will be provided as well on regulations implementing the Genetic Information Nondiscrimination Act and on the Committee's Public Consultation Draft Report on Gene Patents and Licensing Practices and Their Impact on Patient Access to Genetic Tests.

As always, the Committee welcomes hearing from anyone wishing to provide public comment on any issue related to genetics, health and society. Individuals who would like to provide public comment should notify the SACGHS Executive Secretary, Ms. Sarah Carr, by telephone at 301-496-9838 or e-mail at carrs@od.nih.gov. The SACGHS office is located at 6705 Rockledge Drive, Suite 750, Bethesda, MD 20892. Anyone planning to attend the meeting who needs special assistance, such as sign language interpretation or other reasonable accommodations, is also asked to contact the Executive Secretary.

Under authority of 42 U.S.C. 217a, section 222 of the Public Health Service Act, as amended, the Department of Health and Human Services established SACGHS to serve as a public forum for deliberations on the broad range of human health and societal issues raised by the development and use of genetic and genomic technologies and, as warranted, to provide advice on these issues. The draft meeting agenda and other information about SACGHS, including information about access to the Web cast, will be available at the following Web site: http://oba.od.nih.gov/SACGHS/sacghs_about.html

Dated: May 7, 2009.
Jennifer Spaeth,
Director, NIH Office of Federal Advisory Committee Policy.

[FR Doc. E9-11241 Filed 5-13-09; 8:45 am]

BILLING CODE 4140-01-P